DEPARTMENT OF COMMERCE

National Oceanic and Atmospheric Administration

[I.D. 022500A]

Atlantic Tunas Vessel Permits; Proposed Information Collection; Request for Comments

AGENCY: National Marine Fisheries Service (NMFS), National Oceanic and Atmospheric Administration (NOAA), Commerce.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 1, 2000.

ADDRESSES: Direct all written comments to Linda Engelmeier, Departmental Forms Clearance Officer, Department of Commerce, Room 5027, 14th and Constitution Avenue NW, Washington DC 20230 (or via Internet at LEngelme@doc.gov).

FOR FURTHER INFORMATION CONTACT: Requests for additional information or copies of the information collection instrument(s) and instructions should be directed to Christopher Rogers, Highly Migratory Species Management Division (F/SF1), Office of Sustainable Fisheries, NMFS, 1315 East-West Highway, Silver Spring, MD 20910; 301-713-2347.

SUPPLEMENTARY INFORMATION:

I. Abstract

Under the provisions of the Magnuson-Stevens Fishery Conservation and Management Act (16 U.S.C. 1801 et seq.), NOAA is responsible for management of the nation's marine fisheries. In addition, NOAA must comply with the United States' obligations under the Atlantic Tunas Convention Act of 1975 (16 U.S.C. 971 et seq.) and the Magnuson-Stevens Fishery Conservation and Management Act as amended (16 U.S.C. 1801 et seq.). The National Marine Fisheries Service (NMFS) collects information via landings reports, logbooks and surveys to monitor the U.S. catch of Atlantic tunas in relation to applicable quotas and to provide catch and effort information for stock assessment, thereby ensuring that the United States complies with its international obligations to the International Commission for the Conservation of Atlantic Tunas. Permit applications allow NMFS to determine who will be subject to reporting requirements and provides the information needed to send outreach materials and information on the domestic and international regulations to affected fishermen. For example, NMFS periodically distributes compliance guides on size limits, area closures, fishing seasons, and regional quotas for the Atlantic tunas fisheries. The information obtained through permitting provides NMFS with telephone and mailing lists to obtain data necessary to assess the status of the Atlantic tuna resources and regulatory impacts on the commercial and recreational fishing sectors. Additionally, permit lists provide essential information for domestic management policy and rulemaking. Finally, permit numbers are used to identify vessels whose operators report bluefin tuna landings to NMFS via an automated landings reporting system accessible toll free by touch tone telephone.

II. Method of Collection

Recreational and commercial fishermen who fish for or retain any regulated Atlantic tunas (bigeye, albacore, yellowfin, skipjack and bluefin) are required to obtain a vessel permit. The permit fee is $25.00 and the permit is valid for the fishing year of issuance. Permit applications can be obtained via mail, fax or can be printed off of the Internet. When paying by credit card, vessel owners may quickly renew permits via an automated system accessible toll free by touch tone telephone or over the Internet. Completed permits may be mailed or faxed back to vessel owners, as requested, or printed directly off the Internet.

III. Data

OMB Number: 0648-0327.

Form Number: None.

Type of Review: Regular submission.

Affected Public: Individuals (private anglers) and business or other for-profit (charter boat operators and commercial fishermen).

Estimated Number of Respondents: 25,000.

Estimated Time Per Response: 6 minutes for automated telephone renewals, 30 minutes for new permit applications.

Estimated Total Annual Burden Hours: 4,500.

Estimated Total Annual Cost to Public: $625,000 (including permit fees).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: February 23, 2000.
Linda Engelmeier,
Departmental Forms Clearance Officer, Office of Chief Information Officer.

[FR Doc. 00-4912 Filed 2-29-00; 8:45 am]

BILLING CODE 3510-22-F